NUCLEAR REGULATORY COMMISSION

[NRC-2025-1998]

Revision of the NRC Enforcement Policy

AGENCY: Nuclear Regulatory Commission.

ACTION: Revision to policy statement.

SUMMARY: The U.S. Nuclear Regulatory Commission (NRC) is publishing a revision to its Enforcement Policy (Policy) to incorporate multiple changes approved by the Commission.

DATES: This revision is effective on February 27, 2026. The NRC is not soliciting comments on this revision to its Policy at this time.

ADDRESSES: Please refer to Docket ID NRC-2025-1998 when contacting the NRC about the availability of information for this action. You may obtain publicly available information related to this action by any of the following methods:

• Federal Rulemaking Website: Electronically at https://www.regulations.gov. Search for Docket ID NRC-2025-1998. Address questions about NRC dockets to Helen Chang; telephone: 301-415-3228; email: Helen.Chang@nrc.gov.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays. The ADAMS accession number for each document referenced (if it is available in ADAMS) is provided the first time that it is mentioned in the SUPPLEMENTARY INFORMATION section.

FOR FURTHER INFORMATION CONTACT: Gerry Gulla, Office of Enforcement, U.S. Nuclear Regulatory Commission, Washington, DC 20555-0001, telephone: 301-287-9143, email: Gerald.Gulla@nrc.gov.

SUPPLEMENTARY INFORMATION:

I. Discussion

The mission of the NRC is to protect public health and safety and advance the nation's common defense and security by enabling the safe and secure use and deployment of civilian nuclear energy technologies and radioactive materials through efficient and reliable licensing, oversight, and regulation for the benefit of society and the environment. The NRC supports this mission through its use of its Enforcement Policy (Policy). Adequate protection is presumptively assured by compliance with the NRC's regulations, and the Policy contains the basic procedures used to assess and disposition apparent violations of the NRC's requirements.

The NRC initially published the Policy in the Federal Register on October 7, 1980 (45 FR 66754). Since its initial publication, the Policy has been revised on a number of occasions to address changing requirements and lessons learned. The most recent Policy revision is dated January 13, 2023. That revision incorporated changes to the monetary amounts listed in Section 8.0, “Table of Base Civil Penalties.” This revision meets the requirements of the Federal Civil Penalties Inflation Adjustment Act Improvements Act of 2015 (the 2015 Improvements Act), which requires Federal agencies to adjust their civil monetary penalties annually for inflation no later than January 15 of each year.

This current revision to the Policy is a staff initiative to incorporate lessons learned along with miscellaneous clarifications and additions. These revisions include clarifying and relocating the current Policy on lost or missing sources to a new separate section; removing the significance determination process qualitative color descriptions; revising guidance on miscellaneous actions involving individuals; adding a new section for independent spent fuel storage installations; revising several severity level violation examples, including examples for import/export activities, licensed reactor operators, materials operations, and fuel cycle operations; and sunsetting Interim Enforcement Policy 9.2, “Enforcement Discretion for Permanent Implant Brachytherapy Medical Event Reporting (10 CFR 35.3045),” for permanent implant brachytherapy medical reporting requirements.

The NRC provided an opportunity for the public to comment on these Policy revisions in a document published in the Federal Register on December 3, 2020, (85 FR 78046). The NRC received multiple comments from Enercon Talisman, the Nuclear Energy Institute, and Louisiana Energy Services, LLC. These comments and the disposition of them are included in enclosure 1. The revision to the Policy and enclosures is available in ADAMS under Accession Numbers:

Memo: ML22318A123

Enclosure 1: ML22318A130

Enclosure 2: ML22318A132

Enclosure 3: ML22318A138

Enclosure 4: ML23038A220

II. Paperwork Reduction Act Statement

This policy statement does not contain any new or amended collection of information subject to the Paperwork Reduction Act of 1995 (44 U.S.C. 3501 et seq.). Existing collections of information were approved by the Office of Management and Budget (OMB), approval numbers 3150-0010 and 3150-0136.

Public Protection Notification

The NRC may not conduct or sponsor, and a person is not required to respond to, a collection of information unless the document requesting or requiring the collection displays a currently valid OMB control number.

III. Congressional Review Act

This action is a rule as defined in the Congressional Review Act (5 U.S.C. 801-808). However, the Office of Management and Budget has determined that it is not a “major rule” as defined by the Congressional Review Act.

Dated: February 24, 2026.
For the Nuclear Regulatory Commission.
Michael King,
Executive Director for Operations.

[FR Doc. 2026-03929 Filed 2-26-26; 8:45 am]

BILLING CODE 7590-01-P